INTERNATIONAL TRADE COMMISSION

[USITC SE-02-035]

Sunshine Act Meeting

Agency Holding the Meeting: United States International Trade Commission.

Time and Date: November 19, 2002 at 11 a.m.

Place: Room 101, 500 E Street SW., Washington, DC 20436, Telephone: (202) 205-2000.

Status: Open to the public.

Matters to Be Considered:

1. Agenda for future meetings: none.

2. Minutes.

3. Ratification List.

4. Inv. Nos. 701-TA-430 and 731-TA-1019 (Preliminary)(Durum and Hard Red Spring Wheat from Canada)—briefing and vote. (The Commission is currently scheduled to transmit its determination to the Secretary of Commerce on or before November 25, 2002; Commissioners' opinions are currently scheduled to be transmitted to the Secretary of Commerce on or before December 3, 2002.)

5. Outstanding action jackets: none.

In accordance with Commission policy, subject matter listed above, not disposed of at the scheduled meeting, may be carried over to the agenda of the following meeting.

By order of the Commission.

Issued: November 5, 2002.
Marilyn R. Abbott,
Secretary to the Commission.

[FR Doc. 02-28465 Filed 11-5-02; 10:44 am]

BILLING CODE 7020-02-P